FEDERAL HOUSING FINANCE AGENCY

Federal Home Loan Bank Members Selected for Community Support Review

AGENCY: Federal Housing Finance Agency.

ACTION: Notice.

SUMMARY: The Federal Housing Finance Agency (FHFA) is announcing the Federal Home Loan Bank (Bank) members it has selected for the 2008-09 third quarter review cycle under the community support requirements regulation. This notice also prescribes the deadline by which Bank members selected for review must submit Community Support Statements to the FHFA.

DATES: Bank members selected for the review cycle under the community support requirements regulation must submit completed Community Support Statements to the FHFA on or before November 21, 2008.

ADDRESSES: Bank members selected for the 2008-09 third quarter review cycle under the community support requirements regulation must submit completed Community Support Statements to the FHFA either by regular mail at the Federal Housing Finance Board, Office of Supervision, Community Investment and Affordable Housing, 1625 Eye Street, NW., Washington, DC 20006, or by electronic mail at FITZGERALDE@FHFB.GOV.

FOR FURTHER INFORMATION CONTACT: Emma J. Fitzgerald, Program Analyst, Federal Housing Finance Board Office of Supervision, Community Investment and Affordable Housing, by telephone at 202-408-2874, by electronic mail at FITZGERALDE@FHFB.GOV, or by regular mail at the Federal Housing Finance Board, 1625 Eye Street, NW., Washington, DC 20006.

SUPPLEMENTARY INFORMATION:

I. Selection for Community Support Review

Section 10(g)(1) of the Federal Home Loan Bank Act (Bank Act) requires the FHFA to promulgate regulations establishing standards of community investment or service Bank members must meet in order to maintain access to long-term advances. See 12 U.S.C. 1430(g)(1). The regulations must take into account factors such as the Bank member's performance under the Community Reinvestment Act of 1977 (CRA), 12 U.S.C. 2901 et seq., and record of lending to first-time homebuyers. See 12 U.S.C. 1430(g)(2). Pursuant to section 10(g) of the Bank Act, the FHFA's predecessor agency, the Federal Housing Finance Board (Finance Board) promulgated a community support requirements regulation that establishes standards a Bank member must meet in order to maintain access to long-term advances, and review criteria the FHFA must apply in evaluating a member's community support performance. See 12 CFR part 944. The regulation includes standards and criteria for the two statutory factors—CRA performance and record of lending to first-time homebuyers. 12 CFR 944.3. Only members subject to the CRA must meet the CRA standard. 12 CFR 944.3(b). All members, including those not subject to CRA, must meet the first-time homebuyer standard. 12 CFR 944.3(c).

Under the rule, the FHFA selects approximately one-eighth of the members in each Bank district for community support review each calendar quarter. 12 CFR 944.2(a). The FHFA will not review an institution's community support performance until it has been a Bank member for at least one year. Selection for review is not, nor should it be construed as, any indication of either the financial condition or the community support performance of the member.

Each Bank member selected for review must complete a Community Support Statement and submit it to the FHFA by the November 21, 2008 deadline prescribed in this notice. 12 CFR 944.2(b)(1)(ii) and (c). On or before October 24, 2008, each Bank will notify the members in its district that have been selected for the 2008-09 third quarter community support review cycle that they must complete and submit to the FHFA by the deadline a Community Support Statement. 12 CFR 944.2(b)(2)(i). The member's Bank will provide a blank Community Support Statement Form, which also is available on the Finance Board Web site at http://www.fhfb.gov. Upon request, the member's Bank also will provide assistance in completing the Community Support Statement.

The Finance Board has selected the following members for the 2008-09 third quarter community support review cycle:

Federal Home Loan Bank of Boston—District 1
Collinsville Savings Society | Canton | CT
Enfield Federal Savings and Loan Association | Enfield | CT
Essex Savings Bank | Essex | CT
The Guilford Savings Bank | Guilford | CT
Nutmeg State Federal Credit Union | Rocky Hill | CT
Northwest Community Bank | Winsted | CT
Bar Harbor Bank and Trust | Bar Harbor | ME
First Federal Savings & Loan Association of Bath | Bath | ME
Camden National Bank | Camden | ME
Aroostook County FS&LA | Caribou | ME
Damariscotta Bank & Trust Company | Damariscotta | ME
Franklin Savings Bank | Farmington | ME
Kennebunk Savings Bank | Kennebunk | ME
Katahdin Trust Company | Patten | ME
Rockland Savings and Loan Association | Rockland | ME
Skowhegan Savings Bank | Skowhegan | ME
Kennebec Federal Savings & Loan Association | Waterville | ME
Athol Savings Bank | Athol | MA
North Middlesex Savings Bank | Ayer | MA
First Federal Savings Bank of Boston | Boston | MA
First Trade Union Bank | Boston | MA
Boston Private Bank & Trust Company | Boston | MA
OneUnited Bank | Boston | MA
Peoples Federal Savings Bank | Brighton | MA
Cambridge Savings Bank | Cambridge | MA
East Cambridge Savings Bank | Cambridge | MA
Bank of Canton | Canton | MA
Clinton Savings Bank | Clinton | MA
Danversbank | Danvers | MA
Dedham Institution for Savings | Dedham | MA
Eagle Bank | Everett | MA
Southern Massachusetts Credit Union | Falhaven | MA
Citizens-Union Savings Bank | Fall River | MA
Family Federal Savings F.A | Fitchburg | MA
Florence Savings Bank | Florence | MA
Foxboro Federal Savings | Foxboro | MA
Colonial Co-operative Bank | Gardner | MA
Georgetown Savings Bank | Georgetown | MA
Hingham Institution for Savings | Hingham | MA
Peoples Bank | Holyoke | MA
Hyde Park Savings Bank | Hyde Park | MA
Equitable Co-operative Bank | Lynn | MA
Mansfield Co-Operative Bank | Mansfield | MA
Marblehead Savings Bank | Marblehead | MA
Milford Federal Savings and Loan Association | Milford | MA
Millbury Savings Bank | Millbury | MA
Monson Savings Bank | Monson | MA
River Bank North | Andover | MA
Northampton Cooperative Bank | Northampton | MA
Hometown Bank, a Co-Operative Bank | Oxford | MA
Colonial Federal Savings Bank | Quincy | MA
Reading Co-Operative Bank | Reading | MA
Saugusbank, A Cooperative Bank | Saugus | MA
Scituate Federal Savings Bank | Scituate | MA
Middlesex Federal Savings, F.A | Somerville | MA
Southbridge Savings Bank | Southbridge | MA
Spencer Savings Bank | Spencer | MA
Hampden Bank | Springfield | MA
Bristol County Savings Bank | Taunton | MA
Mechanics Co-operative Bank | Taunton | MA
The Savings Bank | Wakefield | MA
South Shore Savings Bank | Weymouth | MA
Federal Savings Bank | Dover | NH
Franklin Savings Bank | Franklin | NH
RBS Citizens, National Association | Meredith | NH
Salem Co-operative Bank | Salem | NH
Newport Federal Savings Bank | Newport | RI
Rhode Island Credit Union | Providence | RI
Union Bank | Morrisville | VT
Northfield Savings Bank | Northfield | VT
Randolph National Bank | Randolph | VT
Federal Home Loan Bank of New York—District 2
Audubon Savings Bank | Audubon | NJ
Pamrapo Savings Bank SLA | Bayinne | NJ
Bogota Savings Bank | Bogota | NJ
Peoples Savings Bank | Bordentown | NJ
Century Savings Bank | Bridgeton | NJ
Colonial Bank FSB | Bridgeton | NJ
Farmers & Mechanics Bank | Burlington | NJ
Sturdy Savings Bank | Cape May Court House | NJ
Spencer Savings Bank, SLA | Elmwood Park | NJ
NVE Bank | Englewood | NJ
Kearny Federal Savings Bank | Fairfield | NJ
Freehold Savings & Loan Association | Freehold | NJ
GSL Savings Bank | Guttenberg | NJ
Glen Rock Savings Bank | Hawthorne | NJ
Morgan Stanley Trust | Jersey City | NJ
Schuyler Savings Bank | Kearny | NJ
Lincoln Park Savings Bank | Lincoln Park | NJ
Metuchen Savings Bank | Metuchen | NJ
Millington Savings Bank | Millington | NJ
Ocean City Home Bank | Ocean City | NJ
Amboy National Bank | Old Bridge | NJ
Roma Bank | Robbinsville | NJ
Boiling Springs Savings Bank | Rutherford | NJ
Gloucester County Federal Savings Bank | Sewell | NJ
Investor Savings Bank | Short Hills | NJ
OceanFirst Bank | Toms River | NJ
Oritani Savings Bank | Township of Washington | NJ
Penn Federal Savings Bank | West Orange | NJ
The Bank | Woodbury | NJ
Brooklyn Federal Savings Bank | Brooklyn | NY
The Canandaigua NB&TC | Canandaigua | NY
Canisteo Savings & Loan Association | Canisteo | NY
Elmira Savings Bank, FSB | Elmira | NY
Glens Falls National Bank and Trust Company | Glens Falls | NY
Evans National Bank | Hamburg | NY
Maple City Savings Bank, FSB | Hornell | NY
Sunnyside FS&LA of Irvington | Irvington | NY
Cattaraugus County Bank | Little Valley | NY
The Lyons National Bank | Lyons | NY
Maspeth Federal Savings and Loan Association | Maspeth | NY
Massena Savings & Loan Association | Massena | NY
Cross County Federal Savings Bank | Middle Village | NY
Provident Bank | Montebello | NY
Carver Federal Savings Bank | New York | NY
The Berkshire Bank | New York | NY
Country Bank | New York | NY
Abacus Federal Savings Bank | New York | NY
Chinatown Federal Savings Bank | New York | NY
Wilber National Bank | Oneonta | NY
Union State Bank | Orangeburg | NY
PathFinder Bank | Oswego | NY
The Upstate National Bank | Rochester | NY
Saratoga National Bank & Trust Company | Saratoga Springs | NY
The National Bank of Stamford | Stamford | NY
Wallkill Valley FS&LA | Wallkill | NY
Five Star Bank | Warsaw | NY
Doral Bank | San Juan | PR
Oriental Bank & Trust | San Juan | PR
Federal Home Loan Bank of Pittsburgh—District 3
Delaware National Bank | Georgetown | DE
Artisans' Bank | Wilmington | DE
Altoona First Savings Bank | Altoona | PA
Reliance Bank | Altoona | PA
Investment Savings Bank | Altoona | PA
First Columbia Bank & Trust | Bloomsburg | PA
The Bryn Mawr Trust Company | Bryn Mawr | PA
NexTier Bank | Butler | PA
Community Bank | Carmichaels | PA
Charleroi Federal Savings Bank | Charleroi | PA
CNB Bank | Clearfield | PA
Coatesville Savings Bank | Coatesville | PA
Slovenian S&LA of Franklin-Conemaugh | Conemaugh | PA
FirsTrust Bank | Conshohocken | PA
First National Community Bank | Dunmore | PA
Armstrong County Building & Loan Association | Ford City | PA
Greenville Savings Bank | Greenville | PA
Halifax National Bank | Halifax | PA
Peoples National Bank | Hallstead | PA
The Honesdale National Bank | Honesdale | PA
Polonia Bank | Huntingdon Valley | PA
Mauch Chunk Trust Company | Jim Thorpe | PA
1st Summit Bank | Johnstown | PA
Union National Community Bank | Lancaster | PA
Westmoreland FS&LA | Latrobe | PA
VIST Bank | Leesport | PA
Mifflin County Savings Bank | Lewistown | PA
Luzerne National Bank | Luzerne | PA
First Citizens National Bank | Mansfield | PA
Mifflinburg Bank & Trust Company | Mifflinburg | PA
The First National Bank of Mifflintown | Mifflintown | PA
First Federal Savings Bank | Monessen | PA
Parkvale Savings Bank | Monroeville | PA
The Muncy Bank and Trust Company | Muncy | PA
Community State Bank of Orbisonia | Orbisonia | PA
Conestoga Bank | Philadelphia | PA
Republic First Bank | Philadelphia | PA
Prudential Savings Bank | Philadelphia | PA
Beneficial Mutual Savings Bank | Philadelphia | PA
Slovak Savings Bank | Pittsburgh | PA
Eureka Bank | Pittsburgh | PA
Iron and Glass Bank | Pittsburgh | PA
United-American Savings Bank | Pittsburgh | PA
West View Savings Bank | Pittsburgh | PA
Union Bank and Trust Company | Pottsville | PA
Liberty Savings Bank, F.S.B | Pottsville | PA
Elk County Savings & Loan Association | Ridgway | PA
Scottdale Bank and Trust Company | Scottdale | PA
Sewickley Savings Bank | Sewickley | PA
Hamlin Bank and Trust Company | Smethport | PA
ESSA Bank & Trust | Stroudsburg | PA
Eagle National Bank | Upper Darby | PA
Northwest Savings Bank | Warren | PA
Washington Federal Savings Bank | Washington | PA
First FS&LA of Greene County | Waynesburg | PA
Citizens & Northern Bank | Wellsboro | PA
Peoples State Bank of Wyalusing | Wyalusing | PA
City National Bank of West Virginia | Cross Lanes | WV
Calhoun County Bank, Inc | Grantsville | WV
First Sentry Bank, Inc | Huntington | WV
Huntington Federal Savings Bank | Huntington | WV
Citizens Bank of Morgantown | Morgantown | WV
Doolin Security Savings Bank FSB | New Martinsville | WV
United Bank, Inc | Parkersburg | WV
First FS&LA of Ravenswood | Ravenswood | WV
First National Bank in Ronceverte | Ronceverte | WV
First Federal Savings Bank | Sistersville | WV
The Williamstown National Bank | Williamstown | WV
Federal Home Loan Bank of Atlanta—District 4
The Exchange Bank of Alabama | Altoona | AL
First Commercial Bank | Birmingham | AL
Capital South Bank | Birmingham | AL
Brantley Bank and Trust Company | Brantley | AL
Central State Bank | Calera | AL
The Camden National Bank | Camden | AL
Frontier Bank | Chelsea | AL
Robertson Banking Company | Demopolis | AL
SunSouth Bank | Dothan | AL
The Southern Bank Company | Gadsen | AL
The Citizens Bank | Greensboro | AL
First National Bank | Hamilton | AL
The Headland National Bank | Headland | AL
Security Federal Savings Bank | Jasper | AL
First State Bank | Lineville | AL
First Citizens Bank | Luverne | AL
BankTrust | Mobile | AL
First Tuskegee Bank | Montgomery | AL
The Citizens Bank | Moulton | AL
Phenix-Girard Bank | Phenix City | AL
Citizens Bank, Inc. | Robertsdale | AL
The Slocomb National Bank | Slocomb | AL
The Bank of Vernon | Vernon | AL
Bank of Wedowee | Wedowee | AL
Wilmington Trust FSB | Wilmington | DE
Bank of Belle Glade | Belle Glade | FL
Community Bank of Manatee | Bradenton | FL
BankUnited, FSB | Coral Gables | FL
BankAtlantic | Fort Lauderdale | FL
1st United Bank | Fort Lauderdale | FL
Florida Citizens Bank | Gainesville | FL
Natbank, N.A | Hollywood | FL
VyStar Credit Union | Jacksonville | FL
First State Bank of Florida Keys | Key West | FL
Central Florida Educators' FCU | Lake Mary | FL
Mercantile Commercebank, National Association | Miami | FL
FirstBank Florida | Miami | FL
Eagle National Bank of Miami | Miami | FL
Republic Federal Bank, NA | Miami | FL
International Finance Bank | Miami | FL
Orion Bank | Naples | FL
First Federal Bank of North Florida | Palatka | FL
Bay Bank and Trust Company | Panama City | FL
OptimumBank | Plantation | FL
Charlotte State Bank | Port Charlotte | FL
Federal Trust Bank | Sanford | FL
Bank of St. Augustine | St. Augustine | FL
Capital City Bank | Tallahassee | FL
Progress Bank of Florida | Tampa | FL
Wauchula State Bank | Wauchula | FL
Bank of Alapaha | Alapaha | GA
Cornerstone Bank | Atlanta | GA
Georgia Bank and Trust Company of Augusta | Augusta | GA
United Community Bank | Blairsville | GA
Planters and Citizens Bank | Camilla | GA
The Claxton Bank | Claxon | GA
Newton Federal Bank | Covington | GA
Chestatee State Bank | Dawsonville | GA
First National Bank of Coffee County | Douglas | GA
Bank of Eastman | Eastman | GA
Farmers & Merchants Bank | Eatonton | GA
Elberton Federal Savings & Loan Association | Elberton | GA
Central Bank of Georgia | Ellaville | GA
Appalachian Community Bank | Ellijay | GA
Capital Bank | Fort Oglethorpe | GA
The Farmers Bank | Greensboro | GA
BankSouth | Greensboro | GA
Bank of Hiawassee | Hiawassee | GA
Crescent Bank & Trust Company | Jasper | GA
Farmers State Bank | Lincolnton | GA
Peoples Bank | Lyons | GA
Pineland State Bank | Metter | GA
Mount Vernon Bank | Mt. Vernon | GA
The Citizens Bank | Nashville | GA
The Bank of Georgia | Peachtree City | GA
Gateway Bank and Trust | Ringgold | GA
Greater Rome Bank | Rome | GA
The Coastal Bank | Savannah | GA
Farmers & Merchants Bank | Statesboro | GA
Spivey State Bank | Swainsboro | GA
Commercial Bank | Thomasville | GA
First Federal Savings and Loan of Valdosta | Valdosta | GA
Severn Savings Bank, F.S.B | Annapolis | MD
Hamilton Federal Bank | Baltimore | MD
Fraternity Federal S&L Association | Baltimore | MD
Homewood Federal Savings Bank | Baltimore | MD
Advance Bank | Baltimore | MD
Saint Casimirs Savings Bank | Baltimore | MD
United Medical Bank | Baltimore | MD
Provident Bank of Maryland | Baltimore | MD
Community First Bank | Baltimore | MD
Urban Trust Bank | Bethesda | MD
Presidential Bank, FSB | Bethesda | MD
The Peoples Bank | Chestertown | MD
Easton Bank & Trust | Easton | MD
The Talbot Bank of Easton | Easton | MD
The Peoples Bank of Elkton | Elkton | MD
Madison Bohemian Savings Bank | Forest Hills | MD
American Bank | Greenbelt | MD
Eastern Savings Bank, FSB | Hunt Valley | MD
Jarrettsville Federal S&L Association | Jarrettsville | MD
K Bank | Owings Mills | MD
Baltimore County Savings Bank, FSB | Perry Hall | MD
Colombo Bank | Rockville | MD
First Shore FS&L Association | Salisbury | MD
Sykesville Federal Savings Association | Sykesville | MD
AmericasBank | Towson | MD
Maryland Bank and Trust Company, N.A | Waldorf | MD
The East Carolina Bank | Engelhard | NC
High Point Bank and Trust Company | High Point | NC
Branch Banking and Trust Company | Lumberton | NC
RBC Bank (USA) | Rocky Mount | NC
First Bank | Troy | NC
Piedmont Federal Savings Bank | Winston Salem | NC
Sandhills Bank | Bethune | SC
Woodlands Bank | Bluffton | SC
First Palmetto Savings Bank, FSB | Camden | SC
Spratt Savings and Loan Association | Chester | SC
Southern First Bank | Greenville | SC
The Peoples Bank | Iva | SC
The Palmetto Bank | Laurens | SC
The Citizens Bank | Olanta | SC
Plantation Federal Bank | Pawleys Island | SC
Woodruff Federal Savings & Loan Association | Woodruff | SC
Virginia Commerce Bank | Arlington | VA
First State Bank | Danville | VA
EVB | Glenns | VA
Powell Valley National Bank | Jonesville | VA
First and Citizens Bank | Monterey | VA
Shore Bank | Onley | VA
First Federal Savings Bank of Virginia | Petersburg | VA
The Bank of Charlotte County | Phenix | VA
Valley Bank | Roanoke | VA
Community Bank | Staunton | VA
Federal Home Loan Bank of Cincinnati—District 5
Kentucky Home Bank, Inc | Bardstown | KY
Bank of Edmonson County | Brownsville | KY
United Citizens Bank & Trust Company | Campbellsburg | KY
Citizens Bank & Trust Company | Campbellsville | KY
Farmers and Traders Bank of Campton | Campton | KY
Carrollton Federal Bank | Carrollton | KY
The First National Bank of Muhlenburg County | Central City | KY
Bank of Clarkson | Clarkson | KY
First Community Bank of Western Kentucky, Inc | Clinton | KY
Clinton Bank | Clinton | KY
Citizens Federal Savings and Loan Association of Covington | Covington | KY
The Farmers National Bank of Cynthiana | Cynthiana | KY
Central Kentucky Federal Savings Bank | Danville | KY
South Central Bank, FSB | Elizabethton | KY
United Kentucky Bank of Pendleton County, Inc | Falmouth | KY
American Founders Bank, Inc | Frankfort | KY
Fredonia Valley Bank | Fredonia | KY
State Bank & Trust Company | Harrodsburg | KY
First Federal Savings & Loan Association | Hazard | KY
The Citizens National Bank | Lebanon | KY
Bank of the Bluegrass & Trust Company | Lexington | KY
First Federal Bank | Lexington | KY
Peoples Security Bank | Louisa | KY
The First Capital Bank of Kentucky | Louisville | KY
Home Federal Bank Corporation | Middlesboro | KY
First FS&LA of Morehead | Morehead | KY
Commonwealth Bank, F.S.B | Mt. Sterling | KY
Traditional Bank, Inc | Mt. Sterling | KY
Citizens Bank | Mt. Vernon | KY
Peoples Bank of Mt. Washington | Mt. Washington | KY
Farmers Bank & Trust Company, Inc | Princeton | KY
First Southern National Bank | Stanford | KY
Farmers National Bank | Walton | KY
Liberty National Bank | Ada | OH
Belmont Savings Bank | Bellaire | OH
The Citizens National Bank of Bluffton | Bluffton | OH
The Brookville Building and Savings Association | Brookville | OH
First Federal Community Bank of Bucyrus | Bucyrus | OH
Peoples Savings and Loan Company | Bucyrus | OH
Columbia Savings Bank | Cincinnati | OH
KEMBA Financial CU, Inc | Cincinnati | OH
New Foundation Loan and Building Company | Cincinnati | OH
Warsaw Federal S&LA of Cincinnati | Cincinnati | OH
The Franklin Savings and Loan Company | Cincinnati | OH
First Safety Bank | Cincinnati | OH
The Savings Bank | Circleville | OH
Third FS&LA of Cleveland | Cleveland | OH
First City Bank | Columbus | OH
The Cortland Savings and Banking Company | Cortland | OH
Ohio Heritage Bank | Coshocton | OH
Valley Savings Bank | Cuyahoga Falls | OH
First Federal Bank of the Midwest | Defiance | OH
United Midwest Savings Bank | DeGraff | OH
Fidelity FS&LA of Delaware | Delaware | OH
First Federal Community Bank | Dover | OH
Heartland Bank | Gahanna | OH
Home Building and Loan Company | Greenfield | OH
Greenville Federal Savings and Loan Association | Greenville | OH
NCB, FSB | Hillsboro | OH
Merchants National Bank | Hillsboro | OH
Liberty Federal Savings Bank | Ironton | OH
Ohio River Bank | Ironton | OH
Home Savings Bank | Kent | OH
The Home Savings and Loan Company of Kenton, Ohio | Kenton | OH
Kingston National Bank | Kingston | OH
First FS&LA of Lakewood | Lakewood | OH
Fairfield Federal S&LA of Lancaster | Lancaster | OH
1st National Bank | Lebanon | OH
Leesburg Federal Savings Bank | Leesburg | OH
The Citizens Bank of Logan | Logan | OH
The Mechanics Savings Bank | Mansfield | OH
Peoples Bank, National Association | Marietta | OH
The Middlefield Banking Company | Middlefield | OH
The Nelsonville Home and Savings Association | Nelsonville | OH
New Carlisle Federal Savings Bank | New Carlisle | OH
First FS&LA of Newark | Newark | OH
The Park National Bank | Newark | OH
The National Bank of Oak Harbor | Oak Harbor | OH
American Savings Bank, fsb | Portsmouth | OH
The Valley Central Savings Bank | Reading | OH
The Citizens Banking Company | Sandusky | OH
Peoples Federal Savings and Loan Association of Sidney | Sidney | OH
Commodore Bank | Somerset | OH
Somerville National Bank | Somerville | OH
Home City Federal Savings Bank | Springfield | OH
Monroe Federal Savings and Loan Association | Tipp City | OH
Perpetual Federal Savings Bank | Urbana | OH
Van Wert Federal Savings Bank | Van Wert | OH
Home Savings Bank | Wapakoneta | OH
The Waterford Commercial and Savings Bank | Waterford | OH
Adams County Building and Loan Company | West Union | OH
Liberty Savings Bank, F.S.B | Wilmington | OH
North Valley Bank | Zanesville | OH
Farmers & Merchants Bank | Adamsville | TN
First South Credit Union | Bartlett | TN
Bank of Bartlett | Bartlett | TN
Bank of Crocker | Bells | TN
InTrust Federal Credit Union | Chattanooga | TN
F&M Bank | Clarksville | TN
Decatur County Bank | Decaturville | TN
Farmers and Merchants Bank | Dyer | TN
First Citizens National Bank of Dyersburg | Dyersburg | TN
Elizabethton Federal Savings Bank | Elizabethton | TN
The Bank of Jackson | Jackson | TN
Progressive Savings Bank, F.S.B | Jamestown | TN
Home Federal Bank of Tennessee | Knoxville | TN
Wilson Bank and Trust | Lebanon | TN
First National Bank of Tennessee | Livingston | TN
Volunteer Federal Savings & Loan Association of Madisonville | Madisonville | TN
Trust One Bank | Memphis | TN
Jefferson Federal Bank | Morristown | TN
Citizens Bank | New Tazewell | TN
Newport Federal Bank | Newport | TN
TNBANK | Oak Ridge | TN
Citizens Community Bank | Winchester | TN
Federal Home Loan Bank of Indianapolis—District 6
Independent Federal Credit Union | Anderson | IN
First Federal Savings Bank—Angola | Angola | IN
Peoples FSB of Dekalb County | Auburn | IN
Farmers and Mechanics FS&LA | Bloomfield | IN
Boonville Federal Savings Bank | Boonville | IN
The First State Bank | Bourbon | IN
Riddell National Bank | Brazil | IN
Indiana Bank and Trust Company | Columbus | IN
Union Savings & Loan Association | Connersville | IN
Community First Bank | Corydon | IN
First Federal Savings Bank | Evansville | IN
Old National Bank | Evansville | IN
Farmers Bank | Frankfort | IN
Newton County Loan & SA, FSB | Goodland | IN
First Federal Savings & Loan of Greensburg | Greensburg | IN
Lake Federal Bank, FSB | Hammond | IN
Pacesetter Bank | Hartford City | IN
Kentland Federal Savings and Loan Association | Kentland | IN
La Porte Savings Bank | La Porte | IN
Logansport Savings Bank, FSB | Logansport | IN
Security Federal Savings Bank | Logansport | IN
Home Bank, SB | Martinsville | IN
The First National Bank of Monterey | Monterey | IN
First Merchants Bank, N.A | Muncie | IN
Mutual Bank | Muncie | IN
Peoples Bank SB | Munster | IN
American Savings, FSB | Munster | IN
Farmers State Bank | New Ross | IN
Community Bank | Noblesville | IN
The First National Bank of Odon | Odon | IN
Lincoln Bank | Plainfield | IN
First Bank Richmond, N.A | Richmond | IN
Mid-Southern Savings Bank, FSB | Salem | IN
Scottsburg Building & Loan Association | Scottsburg | IN
Owen Community Bank, s.b | Spencer | IN
Owen County State Bank | Spencer | IN
Grant County State Bank | Swayzee | IN
First Financial Bank | Terre Haute | IN
Crossroads Bank | Wabash | IN
First Federal Savings Bank | Washington | IN
Liberty Savings Bank, FSB | Whiting | IN
Bank of Wolcott | Wolcott | IN
Commercial Bank | Alma | MI
First Federal of Northern Michigan | Alpena | MI
Bay Port State Bank | Bay Port | MI
Tri-County Bank | Brown City | MI
Eaton Federal Savings Bank | Charlotte | MI
Monarch Community Bank | Coldwater | MI
Huron Community Bank | East Tawas | MI
Paramount Bank | Farmington Hills | MI
Select Bank | Grand Rapids | MI
Peoples State Bank | Hamtramck | MI
Hastings City Bank | Hastings | MI
Union Bank | Lake Odessa | MI
Peoples State Bank of Munising | Munising | MI
New Buffalo Savings Bank, FSB | New Buffalo | MI
Thumb National Bank & Trust | Pigeon | MI
Citizens First Savings Bank | Port Huron | MI
Kalamazoo County State Bank | Schoolcraft | MI
First National Bank of St. Ignace | St. Ignace | MI
Edgewater Bank | St. Joseph | MI
FNB Financial | Three Rivers | MI
Northwestern Bank | Traverse City | MI
First National Bank of Wakefield | Wakefield | MI
Federal Home Loan Bank of Chicago—District 7
First Community Bank and Trust | Beecher | IL
First State Bank of Beecher City | Beecher City | IL
American Enterprise Bank | Buffalo Grove | IL
Farmers State Bank of Camp Point | Camp Point | IL
The First National Bank in Carlyle | Carlyle | IL
Cornerstone Bank & Trust, N.A | Carrollton | IL
Central Illinois Bank—MC | Champaign | IL
BankChampaign, N.A | Champaign | IL
First Federal Savings Bank of Champaign-Urbana | Champaign | IL
Charleston Federal Savings & Loan Association | Charleston | IL
Lincoln Park Savings Bank | Chicago | IL
Washington Federal Bank for Savings | Chicago | IL
Central Federal S&LA of Chicago | Chicago | IL
South Central Bank, N.A | Chicago | IL
Oak Bank | Chicago | IL
Broadway Bank | Chicago | IL
Community Savings Bank | Chicago | IL
Columbus Savings Bank | Chicago | IL
Liberty Bank for Savings | Chicago | IL
Mutual Federal Savings and Loan Association of Chicago | Chicago | IL
Diamond Bank FSB | Chicago | IL
Pulaski Savings Bank | Chicago | IL
First Chicago Bank & Trust | Chicago | IL
Illinois Service Federal Savings & Loan Association | Chicago | IL
Family Federal Savings of Illinois | Cicero | IL
West Town Savings Bank | Cicero | IL
The John Warner Bank | Clinton | Il
Home Federal Savings & Loan Association | Collinsville | IL
Collinsville Building and Loan Association | Collinsville | IL
The Elizabeth State Bank | Elizabeth | IL
Flora Bank & Trust | Flora | IL
Forreston State Bank | Forreston | IL
Hickory Point Bank & Trust, FSB | Forsyth | IL
Community Bank—Wheaton/Glen Ellyn | Glen Ellyn | IL
Glenview State Bank | Glenview | IL
Guardian Savings Bank FSB | Granite City | IL
First National Bank of Grant Park | Grant Park | IL
Granville National Bank | Granville | IL
The Bradford National Bank of Greenville | Greenville | IL
The Havana National Bank | Havana | IL
Herrin Security Bank | Herrin | IL
South End Savings, s.b | Homewood | IL
First State Bank of Western Illinois | La Harpe | IL
Eureka Savings Bank | La Salle | IL
First National Bank of Illinois | Lansing | IL
Heritage State Bank | Lawrenceville | IL
Lisle Savings Bank | Lisle | IL
The First National Bank of Litchfield | Litchfield | IL
West Suburban Bank | Lombard | IL
First Security Bank | Mackinaw | IL
First Bank of Manhattan | Manhattan | IL
1st State Bank of Mason City | Mason City | IL
Mazon State Bank | Mazon | IL
McHenry Savings Bank | McHenry | IL
The City National Bank of Metropolis | Metropolis | IL
Milford Building & Loan Association | Milford | IL
First National Bank | Moline | IL
Wabash Savings Bank | Mount Carmel | IL
The Farmers Bank of Mount Pulaski | Mount Pulaski | IL
Brown County State Bank | Mount Sterling | IL
Nashville Savings Bank | Nashville | IL
Wheaton Bank & Trust Company | Northfield | IL
Illini State Bank | Oglesby | IL
BankFinancial, FSB | Olympia Fields | IL
Herget Bank, N.A | Pekin | IL
National Bank of Petersburg | Petersburg | IL
The Poplar Grove State Bank | Poplar Grove | Il
Citizens First National Bank | Princeton | IL
First Robinson Savings Bank, NA | Robinson | IL
First Federal Savings & Loan Association | Shelbyville | IL
Citizens State Bank of Shipman | Shipman | IL
Town & Country Bank of Springfield | Springfield | IL
Marine Bank, Springfield | Springfield | IL
Tremont Savings Bank | Tremont | IL
The First National Bank | Vandalia | IL
International Bank of Amherst | Amherst | WI
The First National Bank of Bangor | Bangor | WI
Banner Banks | Birnamwood | WI
Community First Bank | Boscobel | WI
The Bank of Brodhead | Brodhead | WI
North Shore Bank FSB | Brookfield | WI
Bank of Deerfield | Deerfield | WI
National Exchange Bank & Trust | Fond du Lac | WI
Fox Valley Savings Bank | Fond du Lac | WI
PremierBank | Fort Atkinson | WI
Continental Savings Bank, FSB | Greenfield | WI
PyraMax Bank, F.S.B. | Greenfield | WI
Greenleaf Wayside Bank | Greenleaf | WI
Hustisford State Bank | Hustisford | WI
ISB Community Bank | Ixonia | WI
Mid America Bank | Janesville | WI
Union State Bank | Kewaunee | WI
Ladysmith Federal Savings & Loan Association | Ladysmith | WI
Bank of Lake Mills | Lake Mills | WI
BLC Community Bank | Little Chute | WI
Rural American Bank—Luck | Luck | WI
AnchorBank, F.S.B. | Madison | WI
Home Savings Bank | Madison | WI
Markesan State Bank | Markesan | WI
The Peoples Community Bank | Mazomanie | WI
Fidelity National Bank | Medford | WI
Bremer Bank, National Association | Menomonie | WI
Merrill Federal Savings and Loan Association | Merrill | WI
Middleton Community Bank | Middleton | WI
Milton Savings Bank | Milton | WI
First Community Bank | Milton | WI
Guaranty Bank | Milwaukee | WI
West Pointe Bank | Oshkosh | WI
Bank of Elmwood | Racine | WI
Dairy State Bank | Rice Lake | WI
Community Business Bank | Sauk City | WI
Heritage Bank | Spencer | WI
Baylake Bank | Sturgeon Bay | WI
Superior Savings Bank | Superior | WI
First Bank | Tomah | WI
Farmers & Merchants Bank | Tomah | WI
The Farmers State Bank of Waupaca | Waupaca | WI
The National Bank of Waupun | Waupun | WI
Maritime Savings Bank | West Allis | WI
West Bend Savings Bank | West Bend | WI
First Citizens State Bank | Whitewater | WI
Paper City Savings Association | Wisconsin Rapids | WI
Federal Home Loan Bank of Des Moines—District 8
Peoples State Bank | Albia | IA
Community Bank | Alton | IA
Bank Iowa | Altoona | IA
First National Bank of Ames | Ames | IA
Citizens Savings Bank | Anamosa | IA
Community State Bank, N.A. | Ankeny | IA
Ashton State Bank | Ashton | IA
Atkins Savings Bank & Trust | Atkins | IA
Farmers & Traders Savings Bank | Bancroft | IA
Chelsea Savings Bank | Belle Plaine | IA
Boone Bank & Trust Company | Boone | IA
Iowa Prairie Bank | Brunsville | IA
Lincoln Savings Bank | Cedar Falls | IA
Guaranty Bank & Trust Company | Cedar Rapids | IA
Iowa Trust and Savings Bank | Centerville | IA
First Security Bank and Trust Company | Charles City | IA
Cherokee State Bank | Cherokee | IA
Page County Federal Savings Association | Clarinda | IA
First Trust and Savings Bank | Coralville | IA
First Federal Savings Bank of Creston, F.S.B. | Creston | IA
Principal Bank | Des Moines | IA
Dubuque Bank & Trust Company | Dubuque | IA
Fidelity Bank & Trust | Dyersville | IA
Community Savings Bank | Edgewood | IA
First American Bank | Fort Dodge | IA
Citizens State Bank | Fort Dodge | IA
First Federal Savings Bank of Iowa | Fort Dodge | IA
Security State Bank | Guttenberg | IA
Westside State Bank | Halbur | IA
Hampton State Bank | Hampton | IA
First State Bank | Hawarden | IA
Bank Iowa | Humboldt | IA
Independence Federal Bank for Savings | Independence | IA
Farmers & Merchants Savings Bank | Iowa City | IA
First Community Bank | Keokuk | IA
State Central Bank | Keokuk | IA
Keokuk Savings Bank & Trust Company | Keokuk | IA
Iowa State Savings Bank | Knoxville | IA
Cedar Valley Bank & Trust | La Porte City | IA
Keystone Savings Bank | Marengo | IA
Heritage Bank | Marion | IA
F & M Bank—Iowa | Marshalltown | IA
United Community Bank | Milford | IA
New Albin Savings Bank | New Albin | IA
City State Bank | Norwalk | IA
Northwestern Bank | Orange City | IA
Clarke County State Bank | Osceola | IA
Bank Iowa | Oskaloosa | IA
Citizens Bank | Sac City | IA
Sibley State Bank | Sibley | IA
American State Bank | Sioux Center | IA
Solon State Bank | Solon | IA
Northwest Bank | Spencer | IA
Randall-Story State Bank | Story City | IA
First State Bank | Sumner | IA
Veridian Credit Union | Waterloo | IA
Webster City Federal Savings Bank | Webster City | IA
Community State Bank | West Branch | IA
West Liberty State Bank | West Liberty | IA
Citizens State Bank | Wyoming | IA
Farmers State Bank of Adams | Adams | MN
Bremer Bank, National Association | Alexandria | MN
Viking Savings Association, F.A. | Alexandria | MN
State Bank of Aurora | Aurora | MN
Northern National Bank | Baxter | MN
RiverWood Bank | Baxter | MN
State Bank of Bellingham | Bellingham | MN
Star Bank | Bertha | MN
First State Bank of Bigfork | Bigfork | MN
Farmers and Merchants State Bank of Blooming Prairie | Blooming Prairie | MN
First Bank Blue Earth | Blue Earth | MN
Brainerd S&LA, A Federal Association | Brainerd | MN
The First National Bank of Deerwood | Deerwood | MN
State Bank in Eden Valley | Eden Valley | MN
Bank Midwest | Fairmont | MN
State Bank of Faribault | Faribault | MN
Citizens B&TC | Hutchinson | MN
TruStar Federal Credit Union | International Falls | MN
State Bank of Kimball | Kimball | MN
Lake Elmo Bank | Lake Elmo | MN
First National Bank of Le Center | Le Center | MN
First State Bank of Le Center | Le Center | MN
First State Bank MN | LeRoy | MN
Home Savings of America | Little Falls | MN
First Farmers & Merchants National Bank | Luverne | MN
Central MN Federal Credit Union | Melrose | MN
First National Bank of Menahga & Sebeka | Menahga | MN
Prairie Sun Bank | Milan | MN
TCF National Bank | Minneapolis | MN
First Minnesota Bank | Minnetoka | MN
Peoples National Bank of Mora | Mora | MN
Community National Bank | North Branch | MN
The First National Bank of Osakis | Osakis | MN
Northwoods Bank of Minnesota | Park Rapids | MN
Horizon Bank | Pine City | MN
The First National Bank of Plainview | Plainview | MN
Prior Lake State Bank | Prior Lake | MN
Minnwest Bank, M.V. | Redwood Falls | MN
Think Mutual Bank | Rochester | MN
First Independent Bank | Russell | MN
Citizens Independent Bank | St. Louis Park | MN
Highland Bank | St. Michael | MN
First National Bank Minnesota | St. Peter | MN
State Bank of Tower | Tower | MN
Minnwest Bank South | Tracy | MN
Queen City Federal Savings Bank | Virginia | MN
Security State Bank of Wanamingo | Wanamingo | MN
Belgrade State Bank | Belgrade | MO
Ozark Mountain Bank | Branson | MO
O'Bannon Banking Company | Buffalo | MO
First National Bank | Camdenton | MO
Missouri Federal Savings Bank | Cameron | MO
Horizon State Bank | Cameron | MO
Canton State Bank | Canton | MO
Bank 21 | Carrollton | MO
Southwest Missouri Bank | Carthage | MO
Mizzou Credit Union | Columbia | MO
State Bank of Missouri | Concordia | MO
Security Bank of the Ozarks | Eminence | MO
Rockwood Bank | Eureka | MO
North American Savings Bank, F.S.B. | Grandview | MO
F&M Bank & Trust Company | Hannibal | MO
Allen Bank & Trust Company | Harrisonville | MO
First Bank | Hazelwood | MO
Blue Ridge Bank & Trust Company | Independence | MO
Jonesburg State Bank | Jonesburg | MO
Missouri Bank & Trust Company | Kansas City | MO
Sunset Life Insurance Company of America | Kansas City | MO
First Federal Bank, F.S.B. | Kansas City | MO
KCB Bank | Kearney | MO
Metcalf Bank | Lee's Summit | MO
Clay County Savings Bank | Liberty | MO
Bank Liberty | Liberty | MO
First Home Savings Bank | Mountain Grove | MO
Boulevard Bank | Neosho | MO
Bank of New Madrid | New Madrid | MO
Home S&LA of Norborne, F.A. | Norborne | MO
Ozark Bank | Ozark | MO
Southern Missouri Bank & Trust Company | Poplar Bluff | MO
Central Federal Savings & Loan Association of Rolla | Rolla | MO
New Frontier Bank | Saint Charles | MO
Progressive Ozark Bank, FSB | Salem | MO
Security Bank & Trust Company | Scott City | MO
Community State Bank | Shelbina | MO
Montgomery Bank, N.A. | Sikeston | MO
Guaranty Bank | Springfield | MO
Bremen Bank and Trust Company | St. Louis | MO
Southern Commercial Bank | St. Louis | MO
Lindell Bank & Trust Company | St. Louis | MO
Community Bank, NA | Summersville | MO
Peoples Bank & Trust Company | Troy | MO
Bank of Urbana | Urbana | MO
The Missouri Bank | Warrenton | MO
Security Bank of Pulaski County | Waynesville | MO
FMB Bank | Wright City | MO
The First State Bank of North Dakota | Arthur | ND
Starion Financial | Bismarck | ND
The Ramsey National Bank & Trust Company of Devils Lake | Devils Lake | ND
American Bank Center | Dickinson | ND
Security State Bank | Dunseith | ND
Alerus Financial, N.A. | Grand Forks | ND
Bank Forward | Hannaford | ND
National Bank of Harvey | Harvey | ND
The Goose River Bank | Mayville | ND
The First State Bank of Munich | Munich | ND
Liberty State Bank | Powers Lake | ND
Dacotah Bank | Aberdeen | SD
First Federal Bank, A Federal Savings Bank | Beresford | SD
First Savings Bank | Beresford | SD
First Bank & Trust | Brookings | SD
Bryant State Bank | Bryant | SD
Dakota Heritage State Bank | Chancellor | SD
Valley Bank NA | Elk Point | SD
Reliabank Dakota | Estelline | SD
Campbell County Bank, Inc. | Herreid | SD
Plains Commerce Bank | Hoven | SD
Quoin Financial Bank | Miller | SD
CorTrust Bank, National Association | Mitchell | SD
American State Bank | Oldham | SD
American State Bank of Pierre | Pierre | SD
Farmers and Merchants State Bank | Plankinton | SD
First Western Federal Savings Bank | Rapid City | SD
First Premier Bank | Sioux Falls | SD
Midland National Life Insurance Company | Sioux Falls | SD
The First Western Bank Sturgis | Sturgis | SD
Commercial State Bank | Wagner | SD
The First Western Bank | Wall | SD
Principal Mortgage Reinsurance Company | Burlington | VT
Federal Home Loan Bank of Dallas—District 9
Elk Horn Bank & Trust Company | Arkadelphia | AR
FNBC | Ash Flat | AR
Heartland Community Bank | Camden | AR
Corning Savings and Loan Association | Corning | AR
Merchants and Farmers Bank | Dumas | AR
Planters & Merchants Bank | Gillett | AR
Calhoun County Bank | Hampton | AR
Community First Bank | Harrison | AR
First Arkansas Bank & Trust | Jacksonville | AR
Pulaski Bank and Trust Company | Jonesboro | AR
One Bank & Trust | Little Rock | AR
Arkansas Bankers' Bank | Little Rock | AR
Farmers Bank & Trust Company | Magnolia | AR
Union Bank and Trust Company | Monticello | AR
Diamond Bank | Murfreesboro | AR
Priority Bank | Ozark | AR
First National Bank | Paragould | AR
Bank of Rogers | Rogers | AR
United Bank | Springdale | AR
The Bank of Star City | Star City | AR
Farmers & Merchants Bank | Stuttgart | AR
Abbeville Building & Loan, a State Chartered Savings Bank | Abbeville | LA
First National Bank USA | Boutte | LA
Community Trust Bank | Choudrant | LA
Citizens Progressive Bank | Columbia | LA
Statewide Bank | Covington | LA
Beauregard Federal Savings Bank | DeRidder | LA
United Community Bank | Gonzales | LA
Central Progressive Bank | Lacombe | LA
Home Bank | Lafayette | LA
First Federal Bank of Louisiana | Lake Charles | LA
The Union Bank | Marksville | LA
Bank of New Orleans | Metairie | LA
MVL Bank | Minden | LA
Iberia Bank | New Iberia | LA
Fidelity Homestead Savings Bank | New Orleans | LA
Fifth District Savings Bank | New Orleans | LA
Dryades Savings Bank, FSB | New Orleans | LA
Crescent Bank & Trust | New Orleans | LA
Union Savings and Loan Association | New Orleans | LA
First Financial Bank & Trust Company | Plaquemine | LA
Plaquemine Bank & Trust Company | Plaquemine | LA
Citizens Bank & Trust Company | Plaquemine | LA
Rayne Building and Loan Association | Rayne | LA
Citizens Bank and Trust Company | Springhill | LA
Bank of Zachary | Zachary | LA
Magnolia State Bank | Bay Springs | MS
First Bank & Trust of MS | Biloxi | MS
State Bank & Trust Company | Brookhaven | MS
BankFirst Financial Services | Columbus | MS
Grand Bank for Savings, F.S.B. | Hattiesburg | MS
The First, A National Banking Association | Hattiesburg | MS
Trustmark National Bank | Jackson | MS
OmniBank | Jackson | MS
Bank of New Albany | New Albany | MS
Bank of Okolona | Okolona | MS
First Federal Savings & Loan | Pascagoula | MS
First National Bank of Pontotoc | Pontotoc | MS
Bank of Yazoo City | Yazoo City | MS
Bank 34 | Alamogordo | NM
Union Savings Bank | Albuquerque | NM
Charter Bank | Albuquerque | NM
1st National Bank | Artesia | NM
The First National Bank of New Mexico | Clayton | NM
Western Bank of Clovis | Clovis | NM
Citizens Bank of Las Cruces | Las Cruces | NM
Community 1st Bank Las Vegas | Las Vegas | NM
The Bank of Las Vegas | Las Vegas | NM
Century Bank | Santa Fe | NM
Firstbank Southwest, National Association | Amarillo | TX
Happy State Bank | Amarillo | TX
Southwest Securities Bank, FSB | Arlington | TX
Affiliated Bank, FSB | Arlington | TX
Amplify Federal Credit Union | Austin | TX
The First National Bank of Beeville | Beeville | TX
The Brenham National Bank | Brenham | TX
Texas Bank | Brownwood | TX
Shelby Savings Bank, ssb | Center | TX
Chappell Hill Bank | Chappell Hill | TX
The First National Bank of Chillicothe | Chillicothe | TX
First Bank of West Texas | Coahoma | TX
The First State Bank | Columbus | TX
First Bank of Conroe, N.A. | Conroe | TX
Charter Bank Northwest | Corpus Christi | TX
Meridian Bank Texas | Corpus Christi | TX
First Security State Bank | Cranfills Gap | TX
Citizens National Bank | Crockett | TX
First National Bank of Crockett | Crockett | TX
TrustTexas Bank, SSB | Cuero | TX
Dalhart Federal Savings and Loan Association | Dalhart | TX
First State Bank | Dalhart | TX
First National Bank in Dalhart | Dalhart | TX
Inwood National Bank | Dallas | TX
Preston National Bank | Dallas | TX
Prosperity Bank | El Campo | TX
First Command Bank | Fort Worth | TX
Colonial Savings, F.A. | Fort Worth | TX
National Bank | Gatesville | TX
Gladewater National Bank | Gladewater | TX
Henderson Federal Savings Bank | Henderson | TX
Franklin Bank, SSB | Houston | TX
Houston Community Bank, N.A. | Houston | TX
Justin State Bank | Justin | TX
Fayette Savings Bank, ssb | La Grange | TX
National Bank & Trust | La Grange | TX
Falcon National Bank | Laredo | TX
Commerce Bank | Laredo | TX
Texas Bank and Trust | Longview | TX
Spring Hill State Bank | Longview | TX
East Texas Professional Credit Union | Longview | TX
First State Bank | Louise | TX
Lubbock National Bank | Lubbock | TX
First Bank & Trust Company | Lubbock | TX
Angelina Savings Bank, FSB | Lufkin | TX
First National Bank of Mount Vernon | Mount Vernon | TX
Guaranty Bond Bank | Mt. Pleasant | TX
First National Bank in Munday | Munday | TX
The Morris County National Bank | Naples | TX
First Federal Community Bank | Paris | TX
Peoples Bank | Paris | TX
Gulf Coast Educators FCU | Pasadena | TX
PointBank | Pilot Point | TX
Pilgrim Bank | Pittsburg | TX
Wood County National Bank | Quitman | TX
Woodforest Bank | Refugio | TX
Robert Lee State Bank | Robert Lee | TX
First Community Bank San Antonio, NA | San Antonio | TX
Citizens State Bank | Sealy | TX
Alliance Bank | Sulphur Springs | TX
First State Bank Central Texas | Temple | TX
American National Bank of Texas | Terrell | TX
Citizens 1st Bank | Tyler | TX
First Federal Bank Texas | Tyler | TX
The First National Bank of Weatherford | Weatherford | TX
Hill Bank & Trust Company | Weimar | TX
American National Bank | Wichita Falls | TX
Federal Home Loan Bank of Topeka—District 10
San Luis Valley Federal Bank | Alamosa | CO
Valley Bank & Trust Company | Brighton | CO
Collegiate Peaks Bank | Buena Vista | CO
Farmers State Bank of Calhan | Calhan | CO
Castle Rock Bank | Castle Rock | CO
Colorado Capital Bank | Castle Rock | CO
FirstBank of Colorado Springs | Colorado Springs | CO
Pikes Peak National Bank | Colorado Springs | CO
Peoples National Bank | Colorado Springs | CO
Vectra Bank Colorado | Denver | CO
First National Bank of Durango | Durango | CO
High Plains Bank | Flagler | CO
Rocky Mountain Bank and Trust | Florence | CO
First National Bank | Fort Collins | CO
Morgan Federal Bank | Fort Morgan | CO
Home Loan State Bank | Grand Junction | CO
Community Banks of Colorado | Greenwood Village | CO
Colorado Federal Savings Bank | Greenwood Village | CO
Gunnison Savings and Loan Association | Gunnison | CO
First National Bank in Lamar | Lamar | CO
Colorado East Bank & Trust | Lamar | CO
Rio Grande Savings and Loan Association | Monte Vista | CO
Montrose Bank | Montrose | CO
The First National Bank of Ordway | Ordway | CO
Paonia State Bank | Paonia | CO
Southern Colorado NB | Pueblo | CO
Yampa Valley Bank | Steamboat Springs | CO
Century Savings & Loan Association | Trinidad | CO
Park State Bank & Trust | Woodland Park | CO
The First National Bank of Anthony | Anthony | KS
New Century Bank | Belleville | KS
Peoples Exchange Bank | Belleville | KS
Guaranty State Bank & Trust Company | Beloit | KS
State Bank of Burton | Burton | KS
Caldwell State Bank in Caldwell | Caldwell | KS
First National Bank in Cimarron | Cimarron | KS
The Elk State Bank | Clyde | KS
Flint Hills Bank | Eskridge | KS
Citizens Bank NA | Fort Scott | KS
Girard National Bank | Girard | KS
Farmers Bank & Trust, N.A. | Great Bend | KS
Golden Belt Bank, FSA | Hays | KS
Citizens State Bank and Trust Company | Hiawatha | KS
State Bank | Hoxie | KS
Central Bank and Trust Company | Hutchinson | KS
Central National Bank | Junction City | KS
Argentine Federal Savings | Kansas City | KS
Industrial State Bank | Kansas City | KS
Inter-State FS&LA of Kansas City | Kansas City | KS
Citizens Bank of Kansas, N.A. | Kingman | KS
Kanza Bank | Kingman | KS
First State Bank | Kiowa | KS
Kearney County Bank | Lakin | KS
The University National Bank | Lawrence | KS
Mutual Savings Association, FSA | Leavenworth | KS
Citizens Savings and Loan Association, FSB | Leavenworth | KS
US Central FCU | Lenexa | KS
The State Exchange Bank | Mankato | KS
The Citizens State Bank | Moundridge | KS
First Bank of Newton | Newton | KS
Midland National Bank | Newton | KS
First State Bank | Norton | KS
Security Savings Bank, FSB | Olathe | KS
First FS&LA of Olathe | Olathe | KS
First Option Bank | Osawatomie | KS
Bank of Blue Valley | Overland Park | KS
Peabody State Bank | Peabody | KS
The Plains State Bank | Plains | KS
The Peoples Bank | Pratt | KS
Valley State Bank | Roeland Park | KS
The Roxbury Bank | Roxbury | KS
First Bank Kansas | Salina | KS
Stanley Bank | Stanley | KS
Stockton National Bank | Stockton | KS
Thunder Bank | Sylvan Grove | KS
First National Bank | Syracuse | KS
The Bank of Tescott | Tescott | KS
Alliance Bank | Topeka | KS
Heritage Bank | Topeka | KS
Silver Lake Bank | Topeka | KS
Capitol Federal Savings Bank | Topeka | KS
Kendall State Bank | Valley Falls | KS
FNB in Wellington | Wellington | KS
The Bank of Commerce & Trust Company | Wellington | KS
SNB Bank of Wichita, FSB | Wichita | KS
Garden Plain State Bank | Wichita | KS
Banker's Bank of Kansas, NA | Wichita | KS
Southwest NB of Wichita | Wichita | KS
Commerce Bank, N.A. | Wichita | KS
Western Heritage Credit Union | Alliance | NE
Community Bank | Alma | NE
Farmers & Merchants National Bank | Ashland | NE
Auburn State Bank | Auburn | NE
Bruning State Bank | Bruning | NE
Butte State Bank | Butte | NE
South Central State Bank | Campbell | NE
Clarkson Bank | Clarkson | NE
Nebraska Energy Federal Credit Union | Columbus | NE
First National Bank & Trust Company | Columbus | NE
American Interstate Bank | Elkhorn | NE
Cedar Security Bank | Fordyce | NE
Genoa National Bank | Genoa | NE
Kearney FCU | Kearney | NE
Pinnacle Bank | Lincoln | NE
TierOne Bank | Lincoln | NE
Security Home Bank | Malmo | NE
Arbor Bank | Nebraska City | NE
The Nehawka Bank | Nehawka | NE
Security National Bank of Omaha | Omaha | NE
Enterprise Bank, NA | Omaha | NE
First Comp Insurance Company | Omaha | NE
Platte Valley National Bank | Scottsbluff | NE
First National Bank | Sidney | NE
Siouxland FCU | South Sioux City | NE
Horizon Bank | Waverly | NE
FNB of Wayne | Wayne | NE
NBC Oklahoma | Altus | OK
Anadarko Bank and Trust Company | Anadarko | OK
First National Bank & Trust | Ardmore | OK
Citizens Security Bank & Trust Company | Bixby | OK
Community Bank | Bristow | OK
Chickasha Bank and Trust Company | Chickasha | OK
First Bank & Trust Company | Clinton | OK
Oklahoma Bank & Trust Company | Clinton | OK
American Bank of Oklahoma | Collinsville | OK
First Texoma National Bank | Durant | OK
Citizens Bank of Edmond | Edmond | OK
First National Bank of Elk City | Elk City | OK
Fort Sill NB | Fort Sill | OK
Oklahoma State Bank | Guthrie | OK
Bank of the Panhandle | Guymon | OK
Legacy Bank | Hinton | OK
McCurtain County National Bank | Idabel | OK
The First State Bank | Keyes | OK
City National Bank & Trust Company | Lawton | OK
First National Bank in Marlow | Marlow | OK
Republic Bank & Trust | Norman | OK
Community National Bank of Okarche | Okarche | OK
American Reserve Life Insurance Company | Oklahoma City | OK
BancFirst | Oklahoma City | OK
The Bankers Bank | Oklahoma City | OK
The Okmulgee Savings and Loan Association | Okmulgee | OK
Lakeside State Bank | Oologah | OK
Bank of the Lakes, N.A. | Owasso | OK
First National Bank of Oklahoma | Ponca City | OK
First State Bank of Porter | Porter | OK
First American Bank | Purcell | OK
The Farmers State Bank | Quinton | OK
First National Bank & Trust Company | Shawnee | OK
Community Bank of Arbuckles | Sulphur | OK
ONB Bank and Trust Company | Tulsa | OK
Valley National Bank | Tulsa | OK
Tulsa Teacher Credit Union | Tulsa | OK
Triad Bank, N.A. | Tulsa | OK
ONB Bank & Trust Company | Tulsa | OK
Summit Bank | Tulsa | OK
The First National Bank of Vinita | Vinita | OK
Security State Bank Wewoka | Wewoka | OK
Plarte Valley National Bank | Torrington | WY
Federal Home Loan Bank of San Francisco—District 11
Copper Star Bank | Scottsdale | AZ
Evertrust Bank | City of Industry | CA
Pacific Premier Bank | Costa Mesa | CA
Xceed Financial Credit Union | El Segundo | CA
First Commerce Bank | Encino | CA
Fremont Bank | Fremont | CA
Fullerton Community Bank | Fullerton | CA
American First Credit Union | La Habra | CA
Silvergate Bank | La Jolla | CA
Borrego Springs Bank, N.A. | La Mesa | CA
International City Bank | Long Beach | CA
Preferred Bank | Los Angeles | CA
Broadway Federal Bank, f.s.b. | Los Angeles | CA
California National Bank | Los Angeles | CA
National Bank of California | Los Angeles | CA
Monterey County Bank | Monterey | CA
Oak Valley Community Bank | Oakdale | CA
Summit Bank | Oakland | CA
Metropolitan Bank | Oakland | CA
Palm Desert National Bank | Palm Desert | CA
Malaga Bank SSB | Palos Verdes Estates | CA
Community Bank | Pasadena | CA
El Dorado Savings Bank | Placerville | CA
Sterlent Credit Union | Pleasanton | CA
PFF Bank & Trust | Pomona | CA
North Valley Bank | Redding | CA
The Golden 1 Credit Union | Sacramento | CA
East West Bank | San Marino | CA
First FS&LA of San Rafael | San Rafael | CA
First Federal Bank of California, F.S.B. | Santa Monica | CA
Summit State Bank | Santa Rosa | CA
Mission Oaks National Bank | Temecula | CA
Temecula Valley Bank, NA | Temecula | CA
Sunwest Bank | Tustin | CA
Travis CU | Vacaville | CA
Desert Community Bank | Victorville | CA
First Financial Credit Union | West Covina | CA
Bank of America California, NA | Charlotte | NC
Washington Mutual Bank, Inc. | Seattle | WA
Federal Home Loan Bank of Seattle—District 12
First National Bank Alaska | Anchorage | AK
Northrim Bank | Anchorage | AK
Mt. McKinley Bank | Fairbanks | AK
Spirit of Alaska FCU | Fairbanks | AK
BankPacific, Ltd. | Hagatna | GU
Bank of Guam | Hagatna | GU
Hawaii State Federal Credit Union | Honolulu | HI
Finance Factors, Limited | Honolulu | HI
American Savings Bank | Honolulu | HI
Mountain West Bank | Coeur D'Alene | ID
The Bank of Commerce | Idaho Falls | ID
Ireland Bank | Malad City | ID
First FSB of Twin Falls | Twin Falls | ID
Wells Fargo Bank Northwest, N.A. | Minneapolis | MN
United Banks, N.A. | Absarokee | MT
First Security Bank of Bozeman | Bozeman | MT
Big Sky Western Bank | Bozeman | MT
Pioneer FS&LA | Dillon | MT
Ravalli County Bank | Hamilton | MT
American Federal Savings Bank | Helena | MT
Glacier Bank | Kalispell | MT
First Security Bank of Malta | Malta | MT
Stockman Bank of Montana | Miles City | MT
Glacier Bank of Whitefish | Whitefish | MT
Bank of Astoria | Astoria | OR
Pacific Continental Bank | Eugene | OR
First FS&LA of McMinnville | McMinnville | OR
Albina Community Bank | Portland | OR
Community First Bank | Prineville | OR
Columbia River Bank | The Dalles | OR
Bank of American Fork | American Fork | UT
Home Savings Bank | Salt Lake City | UT
TransWest Credit Union | Salt Lake City | UT
Horizon Bank | Bellingham | WA
Cascade Bank | Everett | WA
Bank of Fairfield | Fairfield | WA
Timberland Bank | Hoquiam | WA
Kitsap Bank | Port Orchard | WA
Valley Bank | Puyallup | WA
Raymond Federal Bank | Raymond | WA
First Savings Bank of Northwest | Renton | WA
Washington First International Bank | Seattle | WA
Washington Federal Savings | Seattle | WA
Evergreen Bank | Seattle | WA
HomeStreet Bank | Seattle | WA
Sterling Savings Bank | Spokane | WA
The Bank of Star Valley | Afton | WY
Buffalo Federal Savings Bank | Buffalo | WY
Hilltop National Bank | Casper | WY
Big Horn Federal Savings Bank | Greybull | WY
Oregon Trail Bank | Guernsey | WY
Pinnacle Bank—Wyoming | Torrington | WY

II. Public Comments

To encourage the submission of public comments on the community support performance of Bank members, on or before October 24, 2008, each Bank will notify its Advisory Council and nonprofit housing developers, community groups, and other interested parties in its district of the members selected for community support review in the 2008-09 third quarter review cycle. 12 CFR 944.2(b)(2)(ii). In reviewing a member for community support compliance, the FHFA will consider any public comments it has received concerning the member. 12 CFR 944.2(d). To ensure consideration by the FHFA, comments concerning the community support performance of members selected for the 2008-09 third quarter review cycle must be delivered to the FHFA on or before the November 21, 2008 deadline for submission of Community Support Statements.

Dated: October 3, 2008.
Janice A. Kaye,
Associate General Counsel.

[FR Doc. E8-24719 Filed 10-14-08; 4:15 pm]

BILLING CODE 8070-01-P